AGENCY FOR INTERNATIONAL DEVELOPMENT

Privacy Act of 1974; System of Records

AGENCY: United States Agency for International Development.

ACTION: Altered system of records notice.

SUMMARY: Pursuant to the Privacy Act, 5 U.S.C. 552a, the United States Agency for International Development (USAID) is issuing public notice for an altered system of records entitled, “AID-16 Employee Time, Attendance, and Payroll Records” last published at 42 FR 47381 (Sept. 20, 1977). This action is necessary to meet the requirements of the Privacy Act, 5 U.S.C. 522a(e)(4), to publish in the Federal Register notice of the existence and character of record systems maintained by the agency.

DATES: In accordance with 5 U.S.C. 522a(e)(4) and (11), the public is given a 30-day period in which to comment. Therefore, any comments must be received on or before February 5, 2015. Unless comments are received that would require a revision, this altered system of records will become effective on February 5, 2015.

ADDRESSES: You may submit comments:

Electronic

• Federal eRulemaking Portal: http://www.regulations.gov. Follow the instructions on the Web site for submitting comments.

• Email: privacy@usaid.gov.

Paper

• Fax: (703) 666-5670.

• Mail: Chief Privacy Officer, United States Agency for International Development, 1300 Pennsylvania Avenue NW., Washington, DC 20523.

FOR FURTHER INFORMATION CONTACT: The USAID Privacy Office at United States Agency for International Development, Bureau for Management, Office of the Chief Information Officer, Information Assurance Division, 1300 Pennsylvania Avenue NW., Washington, DC 20523; or via email at privacy@usaid.gov.

SUPPLEMENTARY INFORMATION: USAID has recently conducted a review of system of records notices and has determined that the system of records USAID-15 Employee Payroll Records was deleted in error on November 5, 2012 (77 FR 66432). In order to reflect the system of records current status, USAID will incorporate USAID-15 into and alter USAID-16 Attendance and Leave Reporting Records to create USAID-16 Employee Time, Attendance, and Payroll Records.

Dated: December 10, 2014.
William Morgan,
Chief Privacy Officer, United States Agency for International Development.

USAID-16

SYSTEM NAME:

Employee Time, Attendance, and Payroll Records.

SYSTEM LOCATION:

Records are maintained at United States Agency for International Development (USAID) offices in Washington, DC 20523 and other USAID offices in the United States and throughout the world; U.S. Department of State COOP Beltsville (BIMC), 8101 Odell Road, Floor/Room—173, Beltsville, MD 20705; and USAID payroll and information technology services provider locations such as Terremark, 50 NE. 9th Street, Miami, FL 33132, and Global Financial Service Center (GFSC-DoS) 1969 Dyess Avenue, Building A, Computer Room 2A228, Charleston, SC 29405.

CATEGORIES OF INDIVIDUALS IN THE SYSTEM:

The system encompasses all individuals who are current or former Civil Service and Foreign Service employees of USAID, including direct-hire employees assigned to positions in the United States and direct-hire employees assigned to positions overseas; and all individuals who are personal services contractors paid by USAID.

CATEGORIES OF RECORDS IN THE SYSTEM:

This system of records consists of any and all records essential to the conduct of payroll-related activities. These records may contain the following types of information:

(1) Payroll Records: Taxes, various deductions, garnishments, salary data, retirement data, pay period, fiscal year data, benefits, and direct deposit information.

(2) Personnel Records: Social Security Number, employee's name, date of birth, gender, race or national origin, disability data, address data, duty location, position data, awards and bonuses, employment verification information, reinstatement and separation data, travel and relocation data, transfer data, education and training data, employee death records, and military and veterans data.

(3) Time and Attendance Records: Number and type of hours worked (such as regular, overtime, night differential, Federal Equal Pay Act (FEPA), and Sunday differential), compensatory time earned and used, compensatory travel earned, Fair labor Standards Act compensation, tour of duty data, leave requests, leave balances and credits, training time, voluntary leave transfer records, and military leave.

(4) Data Reporting and Personnel and Pay Processing Tables: Nature of action codes, Civil Service authority codes, standard remarks, signature block table, position title table; financial organization table; and salary tables.

AUTHORITY FOR MAINTENANCE OF SYSTEM OF RECORDS:

The system was established and is maintained pursuant to 5 U.S.C. 301, Departmental Regulations; 5 U.S.C. Part III, Employees, Subpart D, Pay and Allowances; 22 U.S.C. Ch. 14, Foreign Service, Subchapter I, General Provisions; 22 U.S.C. Ch. 52, Foreign Service, Subchapter IV, Compensation; 26 U.S.C. 6109, Identifying numbers; 31 U.S.C. 3512, Executive agency accounting and other financial management reports and plans, and 3513, Financial reporting and accounting system; 42 U.S.C. 659, Consent by United States to income withholding, garnishment, and similar proceedings for enforcement of child support and alimony obligations; 44 U.S.C. 3101, Records management by agency heads; general duties; Executive Order 9397, Numbering System for Federal Accounts Relating to Individual Persons, E.O. 9397, 3 CFR, 1943-1948 Comp., p. 283, as amended by E.O. 13478, Amendments To Executive Order 9397 Relating To Federal Agency Use of Social Security Numbers, 73 FR 70279 (Nov. 18, 2008).

PURPOSE(S):

The purposes of this system are to ensure proper payment of salary and benefits to USAID personnel and to track time worked for reporting and compliance purposes.

ROUTINE USES OF RECORDS MAINTAINED IN THE SYTEM, INCLUDING CATEGORIES OF USERS AND PURPOSES OF SUCH USE:

In addition to those disclosures generally permitted under 5 U.S.C. 552a(b), all or a portion of the records contained in this system of records may be disclosed outside USAID as a routine use pursuant to 5 U.S.C. 552a(b)(3) as follows:

(1) To a court, magistrate, or other administrative body of competent jurisdiction for the purposes of presenting evidence, including disclosures to counsel or witnesses in the course of civil discovery, litigation, or settlement negotiations or in connection with criminal proceedings, when USAID is a party to the proceeding or has a significant interest in the proceeding, to the extent that the information is determined to be relevant and necessary.

(2) To the Department of Justice or other appropriate United States Government Agency when the records are arguably relevant to a proceeding in a court or other tribunal of competent jurisdiction in which USAID or a USAID official in his or her official capacity is a party or has an interest, or when the litigation is likely to affect USAID.

(3) In the event of an indication of a violation or potential violation of law, whether civil, criminal or regulatory in nature, and whether arising by statute or particular program pursuant thereto, to the appropriate agency, whether federal, state, local or foreign, charged with the responsibility of investigating or prosecuting such violation or charged with enforcing or implementing the statute, or rule, regulation, or order issued pursuant thereto.

(4) To the Department of State and its posts abroad for the purposes of transmission of information between organizational units of the Agency, or for purposes related to the responsibilities of the Department of State in conducting United States foreign policy or protecting United States citizens, such as the assignment of employees to positions abroad, the reporting of accidents abroad, evacuation of employees and dependents, and other purposes for which officers and employees of the Department of State have a need for the records in the performance of their duties.

(5) To a foreign government or international agency in response to its request for information to facilitate the conduct of U.S. relations with that government or agency through the issuance of such documents as visas, country clearances, identification cards, drivers' licenses, diplomatic lists, licenses to import or export personal effects, and other official documents and permits routinely required in connection with the official service or travel abroad of the individual and his or her dependents.

(6) To Federal agencies with which the Agency has entered into an agreement to provide services to assist the Agency in carrying out its functions under the Foreign Assistance Act of 1961, as amended. Such disclosures would be for the purposes of transmission of information between organizational units of the Agency; of providing to the original employing agency information concerning the services of its employee while under the supervision of the Agency, including performance evaluations, reports of conduct, awards and commendations, and information normally obtained in the course of personnel administration and employee supervision; or of providing other information directly related to the purposes of the inter-agency agreement as set forth therein, and necessary and relevant to its implementation.

(7) To Federal, State, local, foreign, and international agencies when the information is relevant to a decision concerning the hiring, appointment, or retention of an employee; the assignment, detail or deployment of an employee; the issuance, renewal, suspension, or revocation of a security clearance; the execution of a security or suitability investigation; the letting of a contract; or the issuance of a grant or benefit.

(8) To the National Archives and Records Administration for the purposes of records management inspections conducted under the authority of 44 U.S.C. 2904 and 2906.

(9) To a former employee of USAID for purposes of responding to an official inquiry by a federal, state, or local government entity or professional licensing authority, in accordance with applicable agency regulations; or facilitating communications with a former employee that may be necessary for personnel-related or other official purposes where the agency requires information and/or consultation assistance from the former employee regarding a matter within that person's former area of responsibility.

(10) To appropriate agencies, entities, and persons when (1) USAID suspects or has confirmed that the security or confidentiality of information in the system of records has been compromised; (2) USAID has determined that as a result of the suspected or confirmed compromise there is a risk of harm to economic or property interests, identity theft or fraud, or harm to the security or integrity of this system or other systems or programs (whether maintained by the USAID or another Agency or entity) that rely upon the compromised information; and (3) the disclosure made to such agencies, entities, and persons is reasonably necessary to assist in connection with USAID's efforts to respond to the suspected or confirmed compromise and prevent, minimize, or remedy such harm.

(11) To the Office of Personnel Management and the Department of State for purposes of personnel management and benefits processing.

(12) To the Office of Personnel Management, the Department of State, and the Social Security Administration for purposes of retirement benefits processing.

(13) To the Combined Federal Campaign for purposes of charitable contributions processing.

(14) To Federal agencies that provide payroll processing services under a cross-servicing agreement to provide support services for the purposes of payroll processing, including issuing pay to employees and the distribution of allotments and deductions to financial and other institutions, some through electronic transfer.

(15) To labor organizations for the purposes of providing information on eligible employees and dues payments.

(16) To Federal, State, and local agencies for the purposes of identifying individuals and verifying their income sources in relation to paternity, orders of support, and related court orders.

(18) To judgment holders for the purposes of garnishment for the payment of alimony and child support.

(19) To State and local courts of competent jurisdiction for the purposes of enforcing alimony and child support.

(20) To heirs, executors, and legal representatives of beneficiaries for the purposes of probating and settling estates.

(21) To the Department of the Treasury for the purposes of payroll and other types of payment and offset processing.

(22) To the Internal Revenue Service for the purposes of (a) processing taxable earnings and withholding; (b) handling audits, inspections, and investigations; (c) obtaining mailing addresses of debtors in order to collect a Federal debt; and (c) offsetting a Federal debt against the debtor's income tax refund.

(23) To Federal agencies for the purposes of providing wage and separation information to another agency as required by law for payroll purposes.

(24) To the Merit System Protection Board, Federal Labor Relations Authority, the Equal Employment Opportunity Commission, and the Foreign Service Grievance Board, when requested in the performance of their authorized duties.

(25) To contractors, grantees, experts, consultants, students, detailees, and others performing or working on a contract, service, grant, cooperative agreement, or other assignment for the Federal Government, when necessary to accomplish an agency functions related to this system of records.

(26) To anyone who is under contract to USAID for the purposes of fulfilling an agency function but only to the extent necessary to fulfill that function.

POLICIES AND PRACTICES FOR STORING, RETRIEVING, ACCESSING, RETAINING, AND DISPOSING OF RECORDS IN THE SYSTEM:

STORAGE:

Records in this system are stored in paper, microfiche, and/or electronic form; and are maintained in locked cabinets and/or user-authenticated, password-protected systems.

RETRIEVABILITY:

Records are retrieved by the individual's name or Social Security Number.

SAFEGUARDS:

Paper and microfiche records are maintained by USAID and are safeguarded in secured cabinets within secured rooms. The electronic records are stored in the WebTA time and attendance system, National Finance Center Payroll/Personnel System, Phoenix Financial Management System, or other time and attendance and financial management systems, which are safeguarded in accordance with applicable rules and policies, including all applicable USAID automated systems security and access policies. Strict controls have been imposed to minimize the risk of compromising the information that is being stored. Access to the records is limited to those individuals who have a need to know the information for the performance of their official duties and who have appropriate clearances or permissions.

RETENTION AND DISPOSAL:

Time and attendance records are destroyed after a General Accountability Office audit or when six years old, whichever is sooner. These records are maintained in accordance with National Archives and Records Administration General Records Schedule 2, Item 7. Individual employee payroll records are destroyed when 56 years old in accordance with National Archives and Records Administration General Records Schedule 2, Item 1.

SYSTEM MANAGER(S) AND ADDRESS:

Chief, Payroll Division, Office of the Chief Financial Officer, United States Agency for International Development, 1300 Pennsylvania Avenue NW., Washington, DC 20523-2120.

NOTIFICATION PROCEDURE:

Same as Record Access Procedures.

RECORDS ACCESS PROCEDURES:

Under the Privacy Act, individuals may request access to records about themselves. If an agency or a person, who is not the individual who is the subject of the records, requests access to records about an individual, the written consent of the individual who is the subject of the records is required.

Requesters may submit requests for records under the Privacy Act: (1) By mail to the USAID FOIA Office, Bureau for Management, Office of Management Services, Information and Records Division, 1300 Pennsylvania Avenue NW., Room 2.07C-RRB, Washington, DC 20523-2701; (2) via Facsimile to 202-216-3070; (3) via email to foia@usaid.gov; (4) on the USAID Web site at www.usaid.gov/foia-requests; or (5) in person during regular business hours at USAID, 1300 Pennsylvania Avenue NW., Washington, DC 20523-2701, or at USAID overseas missions.

Requesters using 1 through 4 may provide a written statement or may complete and submit USAID Form 507-1, Freedom of Information/Privacy Act Record Request Form, which can be obtained: (a) On the USAID Web site at www.usaid.gov/foia-requests; (b) by email request to foia@usaid.gov; or (c) by writing to the USAID FOIA Office, Bureau for Management, Office of Management Services, Information and Records Division, 1300 Pennsylvania Avenue NW., Room 2.07C-RRB, Washington, DC 20523-2701, and provide information that is necessary to identify the records, including the following: Requester's full name; present mailing address; home telephone; work telephone; name of subject, if other than requester; requester relationship to subject; description of type of information or specific records; and purpose of requesting information. Requesters should provide the system of record identification name and number, if known; and, to facilitate the retrieval of records contained in those systems of records which are retrieved by Social Security Numbers, the Social Security Number of the individual to whom the record pertains.

In addition, requesters using 1 through 4 must include proof of identity information by providing copies of two (2) source documents that must be notarized by a valid (un-expired) notary public. Acceptable proof-of-identity source documents include: An unexpired United States passport; Social Security Card (both sides); unexpired United States Government employee identity card; unexpired driver's license or identification card issued by a state or United States possession, provided that it contain a photograph; certificate of United States citizenship; certificate of naturalization; card showing permanent residence in the United States; United States alien registration receipt card with photograph; United States military card or draft record; or United States military dependent's identification card.

Requesters using 1 through 4 must also provide a signed and notarized statement that they are the person named in the request; that they understand that any falsification of their statement is punishable under the provision of 18 U.S.C. 1001 by a fine, or by imprisonment of not more than five years or, if the offense involves international or domestic terrorism (as defined in section 2331), imprisonment of not more than eight years, or both; and that requesting or obtaining records under false pretenses is punishable under the provisions of 5 U.S.C. 552a(i)(3) as a misdemeanor and by a fine of not more than $5,000.

Requesters using 5 must provide such personal identification as is reasonable under the circumstances to verify the requester's identity, including the following: An unexpired United States passport; Social Security Card; unexpired United States Government employee identity card; unexpired driver's license or identification card issued by a state or United States possession, provided that it contain a photograph; certificate of United States citizenship; certificate of naturalization; card showing permanent residence in the United States; United States alien registration receipt card with photograph; United States military card or draft record; or United States military dependent's identification card.

CONTESTING RECORDS PROCEDURES:

Individuals seeking to contest or amend records maintained on himself or herself must clearly and concisely state that information is being contested, and the proposed amendment to the information sought. Requests to amend a record must follow the Record Access Procedures above.

RECORDS SOURCE CATEGORIES:

Information contained in the system is obtained from the individual concerned and USAID employees acting in their official capacity.

EXEMPTIONS CLAIMED FOR THE SYSTEM:

None.

[FR Doc. 2014-30912 Filed 1-5-15; 8:45 am]

BILLING CODE P